ENVIRONMENTAL PROTECTION AGENCY

[EPA-HQ-OW-2008-0719, FRL 9904-77-OEI]

Agency Information Collection Activities; Submission to OMB for Review and Approval; Comment Request; Cooling Water Intake Structure Phase II Existing Facilities (Renewal), Cooling Water Intake Structures at Phase III Facilities (Renewal), and NPDES Animal Sectors (Renewal)

AGENCY: Environmental Protection Agency.

ACTION: Notice.

SUMMARY: In compliance with the Paperwork Reduction Act (PRA) (44 U.S.C. 3501 et seq.), this document announces that three Information Collection Requests (ICRs) have been forwarded to the Office of Management and Budget (OMB) for review and approval. This is a request to renew three existing approved collections, which are currently approved through January 31, 2014. Public comments were previously requested via the Federal Register (78 FR 57150) on September 17, 2013 during a 60-day comment period. This notice allows for an additional 30 days for public comments. A fuller description of the ICRs are given below, including their estimated burden and cost to the public. An Agency may not conduct or sponsor and a person is not required to respond to a collection of information unless it displays a currently valid OMB control number.

DATES: Additional comments may be submitted on or before February 18, 2014.

ADDRESSES: Submit your comments, referencing Docket ID No. EPA-HQ-OW-2008-0719, to (1) EPA online using www.regulations.gov (our preferred method), by email to ow-docket@epa.gov, or by mail to: Water Docket, Environmental Protection Agency, Mail Code: 28221T, 1200 Pennsylvania Ave. NW., Washington, DC 20460 and (2) OMB by email to: oira_submission@omb.eop.gov.

FOR FURTHER INFORMATION CONTACT: Amelia Letnes, State and Regional Branch, Water Permits Division, OWM Mail Code: 4203M, Environmental Protection Agency, 1200 Pennsylvania Ave. NW., Washington, DC 20460; telephone number: (202) 564-5627; email address: letnes.amelia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

A. List of ICRs Submitted

(1) Cooling Water Intake Structure Phase II Existing Facilities (Renewal), EPA ICR No. 2060.06, OMB Control No. 2040-0257; expiration date 01/31/2014.

(2) Cooling Water Intake Structures at Phase III Facilities (Renewal), EPA ICR No. 2169.05, OMB Control No. 2040-0268, expiration date 01/31/2014.

(3) NPDES Animal Sectors (Renewal); EPA ICR No. 1989.09; OMB Control No. 2040-0250, expiration date 01/31/2014.

B. Individual ICRS:

(1) Cooling Water Intake Structure Phase II Existing Facilities (Renewal)

EPA ICR Number: 2060.06

OMB Control Number: 2040-0257

Abstract: The section 316(b) Phase II Existing Facility rule requires the collection of information from existing point source facilities that generate and transmit electric power (as a primary activity) or generate electric power but sell it to another entity for transmission, use a cooling water intake structure (CWIS) that uses at least 25 percent of the water it withdraws from waters of the U.S. for cooling purposes, and have a design intake flow of 50 million gallons per day (MGD) or more. Section 316(b) of the Clean Water Act (CWA) requires that any standard established under section 301 or 306 of the CWA and applicable to a point source must require that the location, design, construction and capacity of CWISs at that facility reflect the best technology available (BTA) for minimizing adverse environmental impact. Such impact occurs as a result of impingement (where fish and other aquatic life are trapped on technologies at the entrance to CWIS) and entrainment (where aquatic organisms, eggs, and larvae are taken into the cooling system, passed through the heat exchanger, and then pumped back out with the discharge from the facility). The 316(b) Phase II rule establishes requirements applicable to the location, design, construction, and capacity of CWISs at Phase II existing facilities. These requirements establish the BTA for minimizing adverse environmental impact associated with the use of CWISs.

Respondents/affected entities: Entities potentially affected by this action include existing electric power generating facilities meeting the applicability criteria of the 316(b) Phase II Existing Facility rule at 40 CFR 125.91.

Respondent's obligation to respond: Mandatory.

Estimated number of respondents: 514 (472 facilities and 42 States).

Frequency of response: Every five years, bi-annually, monthly.

Total estimated burden: 1,010,021 (965,509 for facilities and 44,513 for States). Burden is defined at 5 CFR 1320.03(b).

Total estimated cost: $59,478,339. This includes an estimated burden cost of $48,890,325 and an estimated cost of $10,588,074 for capital investment or maintenance and operational costs.

Changes in the Estimates: There is a decrease of 13,500 (1%) hours in the total estimated respondent burden compared with that identified in the ICR currently approved by OMB. This marginal change is due to the variations of the compliance schedule from year to year.

(2) Cooling Water Intake Structures at Phase III Facilities (Renewal)

EPA ICR Number: 2169.05.

OMB Control Number: 2040-0268.

Abstract: The Section 316(b) regulations for Phase III facilities (71 FR 35,006; June 16, 2006) require the collection of information from new offshore oil and gas extraction facilities which use a cooling water intake structure(s) that uses at least 25 percent of the water it withdraws for cooling purposes, and has a design intake flow greater than two (2) million gallons per day (MGD). Section 316(b) of the CWA requires that any standard established under section 301 or 306 of the CWA and applicable to a point source must require that the location, design, construction and capacity of cooling water intake structure(s) at that facility reflect the best technology available for minimizing adverse environmental impact. Such impact occurs as a result of impingement (where fish and other aquatic life are trapped on structural components at the entrance to cooling water intake structures) and entrainment (where aquatic organisms, eggs, and larvae are taken into the cooling system, passed through the heat exchanger, and then pumped back out with the discharge from the facility). The rule contains requirements applicable to the location, design, construction, and capacity of cooling water intake structures at new offshore oil and gas extraction facilities. These requirements seek to establish the best technology available for minimizing adverse environmental impact associated with the use of cooling water intake structure(s).

Respondents/affected entities: Entities potentially affected by this action include new offshore oil and gas extraction facilities meeting the applicability criteria of the 316(b) Phase III Facilities at 40 CFR 125.131.

Respondent's obligation to respond: Mandatory.

Estimated number of respondents: 61 facilities.

Frequency of response: Every five years, annual, monthly.

Total estimated burden: 56,755 hours (per year). Burden is defined at 5 CFR 1320.03(b).

Total estimated cost: $3,754,793. This includes an estimated labor burden cost of $2,795,603 and an estimated cost of $959,190 for capital investment or maintenance and operational costs.

Changes in the Estimates: There is an increase of 22,675 hours in burden from the ICR currently approved by OMB. The change in burden is mainly the result of the increase in the number of facilities performing recurring activities, as well as facilities shifting from the initial approval period to the permit implementation and renewal period of the Section 316(b) Phase III rule.

(3) NPDES Animal Sectors (Renewal)

EPA ICR Number: 1989.09.

OMB Control Number: 2040-0250.

Abstract: This ICR covers the information collection burden imposed under the NPDES and Effluent Limitations Guidelines (ELG) regulations for Concentrated Animal Feeding Operations (CAFO) and Concentrated Aquatic Animal Production (CAAP) facilities.

On July 30, 2012, EPA published its most recent revisions to the NPDES CAFO regulations (77 FR 44494). These revisions were necessary as a result of a court decision in 2011 by the United States Court of Appeals for the Fifth Circuit in litigation relating to the NPDES CAFO permitting program (National Pork Producers Council v. EPA, 635 F.3d 738, 756 (5th Cir. 2011)). Although the decision narrowed the scope of CAFOs that need to seek NPDES permit coverage, the Effluent Limitations Guidelines for CAFOs and other aspects of the permitting program remain unchanged. As a consequence, the recordkeeping and reporting requirements faced by those CAFOs that do seek NPDES permit coverage were not affected.

The Effluent Limitations Guidelines and Standards for the Concentrated Aquatic Animal Production (CAAP) Point Source Category establish specific reporting requirements for a portion of CAAP facilities through NPDES permits. The rule covers facilities which are defined as CAAP facilities (see 40 CFR 122.24 and 40 CFR Part 122) and produce at least 100,000 pounds of fish per year in flow through, recirculating and net pen systems. The special reporting and record-keeping requirements under the rule are the subject of this ICR. CAAP facility owners or operators are also required to file reports with the permitting authority when drugs with special approvals are applied to the production units or a failure in the structural integrity occurs in the aquatic animal containment system.

Respondents/affected entities: Entities potentially affected by this action are concentrated animal feeding operations (CAFOs) as specified in section 502(14) of the CWA, 33 U.S.C. 1362(14) and defined in the NPDES regulations at 40 CFR 122.23 and a subset of facilities engaged in aquatic animal production defined in 40 CFR part 451.

Respondent's obligation to respond: Mandatory.

Estimated number of respondents: 20,961 (20,915 facilities and 46 States).

Frequency of response: varies from once to ongoing.

Total estimated burden: 3,136,799 hours (per year). Burden is defined at 5 CFR 1320.03(b).

Estimated total annual costs: $70,924,281. This includes an estimated cost of $8,607,000 for capital investment or maintenance and operational costs.

Changes in the estimates: This updated ICR estimates a total burden that is 136,879 hours less (4.2%) than the currently approved amount. This is due primarily to the court decision mentioned previously, which reduced the number of CAFOs that need to seek NPDES permit coverage.

John Moses,
Director, Collection Strategies Division.

[FR Doc. 2014-00726 Filed 1-15-14; 8:45 am]

BILLING CODE 6560-50-P